NUCLEAR REGULATORY COMMISSION

[Docket Nos. 50-338 and 50-339; NRC-2020-0234]

Notice of Intent To Conduct Scoping Process and Prepare Environmental Impact Statement Virginia Electric and Power Company; North Anna Power Station, Unit Nos. 1 and 2; Correction

AGENCY: Nuclear Regulatory Commission.

ACTION: Intent to conduct scoping process and prepare environmental impact statement; public scoping meeting and request for comment; correction.

SUMMARY: The U.S. Nuclear Regulatory Commission (NRC) is correcting a notice that was published in the Federal Register on October 23, 2020, informing the public of the NRC's intention to conduct environmental scoping and prepare an environmental impact statement (EIS) related to Virginia Electric and Power Company's (Dominion) subsequent license renewal application for North Anna Power Station, Unit Nos. 1 and 2 (North Anna), and to provide the public an opportunity to participate in the environmental scoping process. This action is necessary to correct the public scoping webinar participant's passcode.

DATES: The NRC will hold a public scoping meeting as an online webinar on November 4, 2020, from 1:00 p.m. to 3:00 p.m. Eastern Standard Time (EST). Submit comments on the scope of the EIS by November 23, 2020. Comments received after November 23, 2020, will be considered if it is practical to do so, but assurance of consideration cannot be given to comments received after this date.

ADDRESSES: You may submit comments by any of the following methods (unless this document describes a different method for submitting comments on a specific subject); however, the NRC encourages electronic comment submission through the Federal Rulemaking website:

• Federal Rulemaking website: Go to https://www.nrc.gov and search for Docket ID NRC-2020-0234. Address questions about Docket IDs in Regulations.gov to Jennifer Borges; telephone: 301-287-9127; email: Jennifer.Borges@nrc.gov. For technical questions, contact the individual listed in the FOR FURTHER INFORMATION CONTACT section of this document.

• Mail comments to: Office of Administration, Mail Stop TWFN7A60M, U.S. Nuclear Regulatory Commission, Washington, DC 20555-0001. For additional direction on obtaining information and submitting comments, see “Obtaining Information and Submitting Comments” in the SUPPLEMENTARY INFORMATION section of this document.

FOR FURTHER INFORMATION CONTACT: Tam Tran, Office of Nuclear Material Safety and Safeguards, U.S. Nuclear Regulatory Commission, Washington, DC 20555-0001; telephone: 301-415-3617, email: Tam.Tran@nrc.gov.

SUPPLEMENTARY INFORMATION:

I. Obtaining Information and Submitting Comments

A. Obtaining Information

Please refer to Docket ID NRC-2020-0234 when contacting the NRC about the availability of information regarding this document. You may obtain publicly available information related to this document by any of the following methods:

• Federal Rulemaking website: Go to https://regulations.gov and search for Docket ID NRC-2020-0234.

• NRC's Agencywide Documents Access and Management System (ADAMS): You may obtain publicly available documents online in the NRC Library at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. Dominion's application for subsequent renewal of the North Anna licenses can be found in (ADAMS Package Accession No. ML20246G703).

• Attention: The PDR, where you may examine and order copies of public documents is currently closed. You may submit your request to the PDR via email at PDR.Resource@nrc.gov or call 1-800-397-4209 between 8:00 a.m. and 4:00 p.m. (EST), Monday through Friday, except Federal holidays.

B. Submitting Comments

The NRC encourages electronic comment submission through the Federal Rulemaking website (https://www.regulations.gov). Please include Docket ID NRC-2020-0234 in your comment submission in order to ensure that the NRC is able to make your comment submission available to the public in this docket.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Correction

In the Federal Register (FR) on October 23, 2020 (85 FR 67572), in FR Doc. 2020-23463, on page 67574, under section IV. Public Scoping Meeting, correct the language under the “Location” column of the public scoping meeting table to read “Participant Passcode: 5257816#”.

III. Public Scoping Meeting

In accordance with section 51.26(b) of title 10 of the Code of Federal Regulations, the scoping process for an EIS may include a public scoping meeting to help identify significant issues related to a proposed activity and to determine the scope of issues to be addressed in an EIS.

The NRC is announcing that it will hold a public scoping meeting as an online webinar, for the North Anna subsequent license renewal supplement to the NRC's NUREG-1437, “Generic Environmental Impact Statement for License Renewal of Nuclear Plants” (GEIS). The webinar will offer a telephone line for members of the public to provide comments. A court reporter will record and transcribe all comments received during the webinar. To be considered, comments must be provided either at the transcribed public meeting or in writing, as discussed in the ADDRESSES section of this document. The date and time for the public scoping webinar are as follows:

Meeting | Date | Time | Location
Public Scoping Webinar | 11/4/2020 | 1:00 p.m. to 3:00 p.m. (EST) | Webinar Information: https://usnrc.webex.com. Event number: 199 753 7173. Telephone Bridge Line: 1-800-369-2157. Participant Passcode: 5257816#.

The public scoping meeting will include: (1) An overview by the NRC staff of the environmental and safety review processes, the proposed scope of the supplement to the GEIS, and the proposed review schedule; and (2) the opportunity for interested government agencies, organizations, and individuals to submit comments or suggestions on environmental issues or the proposed scope of the North Anna subsequent license renewal supplement to the GEIS.

Persons interested in attending this online webinar should monitor the NRC's Public Meeting Schedule at https://www.nrc.gov/pmns/mtg for additional information, agendas for the meeting, and access information for the webinar. Participants should register in advance of the meeting by visiting the website https://usnrc.webex.com and using the event number provided in this notice. A confirmation email will be generated providing additional details and a link to the webinar. Please contact Tam Tran no later than November 2, 2020, if accommodations or special equipment is needed to attend or to provide comments, so that the NRC staff can determine whether the request can be accommodated.

Participation in the scoping process for the North Anna subsequent license renewal supplement to the GEIS does not entitle participants to become parties to the proceeding to which the supplement to the GEIS relates. Matters related to participation in any hearing are outside the scope of matters to be discussed at this public meeting.

Dated: October 29, 2020.
For the Nuclear Regulatory Commission.
Robert B. Elliott,
Chief, Environmental Review License Renewal Branch, Division of Rulemaking, Environment, and Financial Support, Office of Nuclear Material Safety and Safeguards.

[FR Doc. 2020-24363 Filed 11-2-20; 8:45 am]

BILLING CODE 7590-01-P